DEPARTMENT OF HOMELAND SECURITY

Federal Emergency Management Agency

[Docket ID FEMA-2013-0002; Internal Agency Docket No. FEMA-B-1311]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 19, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1311, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community Map Repository Address
Modoc County, California, and Incorporated Areas
Maps Available for Inspection Online at: http://www.r9map.org/Pages/ProjectDetailsPage.aspx?choLoco=25&choProj=240
City of Alturas | Director of Public Works, 200 West North Street, Alturas, CA 96101.
Unincorporated Areas of Modoc County | Modoc County Planning Department, 203 West 4th Street, Alturas, CA 96101.
Poweshiek County, Iowa and Incorporated Areas
Maps Available for Inspection Online at: http://www.starr-team.com/starr/RegionalWorkspaces/RegionVII/PoweshiekCountyIowa/SitePages/Home.aspx
Unincorporated Areas of Poweshiek County | Poweshiek County Courthouse, 302 East Main Street, Montezuma, IA 50171.
Norman County, Minnesota, and Incorporated Areas
Maps Available for Inspection Online at: http://www.starr-team.com/starr/RegionalWorkspaces/RegionV/NormanMN
City of Ada | 15 East 4th Street, Ada, MN 56510.
City of Borup | 203 Main Avenue, Borup, MN 56519.
City of Halstad | 404 5th Avenue East, Halstad, MN 56548.
City of Hendrum | 308 Main Street East, Hendrum, MN 56550.
City of Perley | 205 Main Street, Perley, MN 56574.
City of Shelly | 101 West McKinley Avenue, Shelly, MN 56581.
City of Twin Valley | 107 2nd Street SW, Twin Valley, MN 56584.
Unincorporated Areas of Norman County | 16 3rd Avenue East, Ada, MN 56510.
Bradford County, Pennsylvania (All Jurisdictions)
Maps Available for Inspection Online at: www.rampp-team.com/pa.htm
Borough of Alba | Alba Borough Hall, 3536 Minnequa Main Road, Canton, PA 17724.
Borough of Athens | Municipal Building, 2 South River Street, Athens, PA 18810.
Borough of Burlington | Bradford County Office of Planning, 29 Vankuren Drive, Suite 1, Towanda, PA 18848.
Borough of Canton | Borough Office, 4 North Center Street, Canton, PA 17724.
Borough of LeRaysville | Borough Hall, 130 East Street, LeRaysville, PA 18829.
Borough of Monroe | Monroe Borough Hall, 149 Dalpiaz Drive, Monroeton, PA 18832.
Borough of New Albany | Borough Hall, 548 Front Street, New Albany, PA 18833.
Borough of Rome | Borough Building, 926 Main Street, Rome, PA 18837.
Borough of Sayre | Borough Office, 110 West Packer Avenue, Sayre, PA 18840.
Borough of South Waverly | Borough Hall, 2523 Pennsylvania Avenue, South Waverly, PA 18840.
Borough of Sylvania | Borough Community Building, 2152 Sylvania Road, Sylvania, PA 16945.
Borough of Towanda | Municipal Building, 724 Main Street, Towanda, PA 18848.
Borough of Troy | Borough Office, 49 Elmira Street, Troy, PA 16947.
Borough of Wyalusing | Borough Hall, 50 Senate Street, Wyalusing, PA 18853.
Township of Albany | Township of Albany, 817 Dog Farm Road, New Albany, PA 18833.
Township of Armenia | Township of Armenia, 41 Stoney Ledge Lane, Troy, PA 16947.
Township of Asylum | Asylum Township Building, 19981 Route 187, Towanda, PA 18848.
Township of Athens | Athens Township Municipal Building, 45 Herrick Avenue, Sayre, PA 18840.
Township of Burlington | Burlington Township Building, 2030 Weed Hill Road, Towanda, PA 18848.
Township of Canton | Township Building, 2343 Route 414, Canton, PA 17724.
Township of Columbia | Columbia Township Maintenance Building, 4701 Austinville Road, Columbia Cross Roads, PA 16914.
Township of Franklin | Franklin Township Building, 403 Creamery Road, Monroeton, PA 18814.
Township of Granville | Township of Granville, 487 Saxton Hill Road, Granville Summit, PA 16926.
Township of Herrick | Herrick Township Building, 399 Leisure Lake Road, Wyalusing, PA 18853.
Township of LeRoy | Township of LeRoy, 7854 Southside Road, Canton, PA 17724.
Township of Litchfield | Township of Litchfield, 168 Hunsinger Overlook Lane, Athens, PA 18810.
Township of Monroe | Bradford County Office of Planning, 29 Vankuren Drive, Suite 1, Towanda, PA 18848.
Township of North Towanda | North Towanda Township Office, 477 Reuter Boulevard, Towanda, PA 18848.
Township of Orwell | Orwell Township Hall, 619 South Hill Road, Wyalusing, PA 18853.
Township of Overton | Township of Overton, 80 McGroarty Lane, New Albany, PA 18833.
Township of Pike | Pike Township Building, 1514 Haighs Pond Road, Rome, PA 18837.
Township of Ridgebury | Ridgebury Township Municipal Building, 13278 Berwick Turnpike, Gillett, PA 16925.
Township of Rome | Rome Township Building, 28083 Route 187, Wysox, PA 18854.
Township of Sheshequin | Sheshequin Township Office, 1774 North Middle Road, Ulster, PA 18850.
Township of Smithfield | Smithfield Township Municipal Building, 48 Factory Drive, East Smithfield, PA 18817.
Township of South Creek | Township of South Creek, 35839 Route 14, Gillett, PA 16925.
Township of Springfield | Springfield Township Building, 882 Wood Road, Milan, PA 18831.
Township of Standing Stone | Standing Stone Township Building, 35165 Route 6, Wysox, PA 18854.
Township of Stevens | Stevens Township Building, 4332 Herrickville Road, Wyalusing, PA 18853.
Township of Terry | Terry Township Building, 1876 Rienze Road, Wyalusing, PA 18853.
Township of Towanda | Township Office, 44 Chapel Street, Towanda, PA 18848.
Township of Troy | Township Office, 961 Gulf Road, Suite 101, Troy, PA 16947.
Township of Tuscarora | Tuscarora Township Building, 2298 Underhill Road, Laceyville, PA 18623.
Township of Ulster | Municipal Building, 24071 Route 220, Ulster, PA 18850.
Township of Warren | Warren Township Municipal Building, 3 Schoolhouse Road, Warren Center, PA 18851.
Township of Wells | Wells Township Building, 1401 Coryland Park Road, Gillett, PA 16925.
Township of West Burlington | Township Building, 13028 Route 6, West Burlington, PA 18810.
Township of Wilmot | Wilmot Township Municipal Building, 4861 Route 187, Sugar Run, PA 18846.
Township of Windham | Windham Township Building, 38846 Route 187, Rome, PA 18837.
Township of Wyalusing | Township Building, 41908 Route 6, Wyalusing, PA 18853.
Township of Wysox | Wysox Township Building, 1789 Hillside Drive, Wysox, PA 18854.
Brown County, Texas, and Incorporated Areas
Maps Available for Inspection Online at: http://www.riskmap6.com/Community.aspx?cid=274&sid=5
City of Bangs | City Hall, 109 South 1st Street, Bangs, TX 76823.
City of Blanket | City Hall, 719 Main Street, Blanket, TX 76432.
City of Brownwood | Engineering Office, 501 Center Avenue, Brownwood, TX 76804.
City of Early | City Hall, 960 Early Boulevard, Early, TX 76802.
Unincorporated Areas of Brown County | Brown County Building Inspector's Office, 200 South Broadway Street, Suite 332, Brownwood, TX 76801.
Jackson County, Texas, and Incorporated Areas
Maps Available for Inspection Online at: http://riskmap6.com/Community.aspx?cid=369&sid=5
City of Edna | City Hall, 126 West Main Street, Edna, TX 77957.
City of Ganado | City Hall, 112 East Putnam, Ganado, TX 77962.
City of La Ward | Fire Station, 13041 State Highway 172, La Ward, TX 77970.
Unincorporated Areas of Jackson County | Jackson County Department of Permitting, Inspection and Floodplain Administration, 411 North Wells, Room 130, Edna, TX 77957.
Matagorda, Texas, and Incorporated Areas
Maps Available for Inspection Online at: http://riskmap6.com/
City of Bay City | City Hall, 1901 5th Street, Bay City, TX 77414.
City of Palacios | City Hall, 311 Henderson Avenue, Palacios, TX 77465.
Unincorporated Areas of Matagorda County | Matagorda County Courthouse, 1700 7th Street, Bay City, TX 77414.

(Catalog of Federal Domestic Assistance No. 97.022, “Flood Insurance.”)

Roy E. Wright,
Deputy Associate Administrator for Mitigation, Department of Homeland Security, Federal Emergency Management Agency.

[FR Doc. 2013-12018 Filed 5-20-13; 8:45 am]

BILLING CODE 9110-12-P